OVERSEAS PRIVATE INVESTMENT CORPORATION

Sunshine Act; Board of Directors Meeting, September 23, 2010

TIME AND DATE: Thursday, September 23, 2010, 10 a.m. (OPEN Portion) 10:15 a.m. (CLOSED Portion).

PLACE: Offices of the Corporation, Twelfth Floor Board Room, 1100 New York Avenue, NW., Washington, DC.

STATUS: Meeting OPEN to the Public from 10 a.m. to 10:15 a.m. Closed portion will commence at 10:15 a.m. (approx.).

MATTERS TO BE CONSIDERED: 1. President's Report.

2. Approval of June 24, 2010 Minutes (Open Session).

3. Confirmations: Deborah K. Burand as Vice President & General Counsel; Jay L. Koh as Vice President & Chief Financial Officer; John E. Morton as Vice President, Office of Investment Policy.

FURTHER MATTERS TO BE CONSIDERED: (Closed to the Public 10:15 a.m.)

1. Reports.

2. Proposed FY 2012 Budget.

3. Finance Project—Hungary.

4. Finance Project—Russia.

5. Finance Project—Costa Rica, Honduras and Panama.

6. Approval of June 24, 2010 Minutes (Closed Session).

7. Pending Major Projects.

Written summaries of the projects to be presented will be posted on OPIC's Web site on or about August 19, 2010.

CONTACT PERSON FOR INFORMATION: Information on the meeting may be obtained from Connie M. Downs at (202) 336-8438.

Dated: August 12, 2010.
Connie M. Downs,
Corporate Secretary, Overseas Private Investment Corporation.

[FR Doc. 2010-20292 Filed 8-12-10; 4:15 pm]

BILLING CODE 3210-01-M